DEPARTMENT OF TRANSPORTATION

National Highway Traffic Safety Administration

[Docket No. NHTSA-2004-17678; Notice 1]

Ford Motor Company, Receipt of Petition for Decision of Inconsequential Noncompliance

Ford Motor Company (Ford) has determined that the certification labels on certain vehicles that it produced in 1998 through 2004 do not comply with S5.3.2 of 49 CFR 571.120, Federal Motor Vehicle Safety Standard (FMVSS) No. 120, “Tire selection and rims for motor vehicles other than passenger cars.” Ford has filed an appropriate report pursuant to 49 CFR part 573, “Defect and Noncompliance Reports.”

Pursuant to 49 U.S.C. 30118(d) and 30120(h), Ford has petitioned for an exemption from the notification and remedy requirements of 49 U.S.C. chapter 301 on the basis that this noncompliance is inconsequential to motor vehicle safety.

This notice of receipt of Ford's petition is published under 49 U.S.C. 30118 and 30120 and does not represent any agency decision or other exercise of judgment concerning the merits of the petition.

A total of approximately 908,548 model year 1999 through 2003 Ford Windstar multipurpose passenger vehicles and approximately 86,321 model year 2004 Ford Freestar and Mercury Monterey multipurpose passenger vehicles produced between August 4, 1998, and March 24, 2004, are affected. S5.3.2 of FMVSS 120 requires that each vehicle shall identify either on the certification label or on the separate tire information label “the [rim] size designation and, if applicable, the type designation of [r]ims * * *.” The labeling on the affected vehicles does not include the rim size and type information required by S5.3.2.

Ford believes that the noncompliance is inconsequential to motor vehicle safety and that no corrective action is warranted. Ford states that the likelihood of an operator inadvertently installing an incorrect wheel on one of these vehicles is virtually nonexistent because the rim size and type information is marked on the wheels of the vehicle. Ford is not aware of any owner or field complaints related to the label omission, nor is it aware of any incidents relating to motor vehicle safety or any other evidence that this inadvertent omission of rim size and type data on the vehicle labeling has had a negative safety impact on the owners and/or operators of these vehicles.

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: June 23, 2004.

Authority: 49 U.S.C. 30118, 30120: delegations of authority at 49 CFR 1.50 and 501.8.

Issued on: May 18, 2004.
Kenneth N. Weinstein,
Associate Administrator for Enforcement.

[FR Doc. 04-11692 Filed 5-21-04; 8:45 am]

BILLING CODE 4910-59-P